DEPARTMENT OF TRANSPORTATION

Federal Aviation Administration

14 CFR Part 95

[Docket No. 31552; Amdt. No. 579]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, July 11, 2024.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., STB Annex, Bldg. 26, Room 217, Oklahoma City, OK 73169-6918. Telephone: (405) 954-1139.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on June 7, 2024.
Thomas J. Nichols,
Aviation Safety, Flight Standards Service, Manager, Standards Section, Flight Procedures & Airspace Group, Flight Technologies and Procedures Division.

Adoption of the Amendment

Accordingly, pursuant to the authority delegated to me by the Administrator, part 95 of the Federal Aviation Regulations (14 CFR part 95) is amended as follows effective at 0901 UTC, 11 July 2024.

PART 95—IFR ALTITUDES

1. The authority citation for part 95 continues to read as follows:

Authority: 49 U.S.C. 106(g), 40103, 40113 and 14 CFR 11.49(b)(2)

2. Part 95 is amended to read as follows:

Revisions to IFR Altitudes & Changeover Point
Amendment 579 effective date July 11, 2024
FROM | TO | MEA
Color Routes
§ 95.60 Blue Federal Airway B3 is Amended To Delete
ANIAK, AK NDB | ANVIK, AK NDB | 3700 MAA—17500
ANVIK, AK NDB | NORTH RIVER, AK NDB | 4600 MAA—17500
NORTH RIVER, AK NDB | NORTON BAY, AK NDB | 3000 MAA—17500
NORTON BAY, AK NDB | HOTHAM, AK NDB | 4500 MAA—17500
HOTHAM, AK NDB | NOATAK, AK NDB/DME | 3300 MAA—17500

FROM | TO | MEA | MAA
§ 95.3000 Low Altitude RNAV Routes
§ 95.3206 RNAV Route T206 is Amended by Adding
ZADEL, NC WP | LIBERTY, NC VORTAC | 2800 | 17500
LIBERTY, NC VORTAC | SNOWS, NC FIX | 2900 | 17500
§ 95.3258 RNAV Route T258 is Amended by Adding
GMINI, NC WP | TWHYY, NC WP | 2300 | 17500
TWHYY, NC WP | LANHO, NC FIX | 3200 | 17500
LANHO, NC FIX | ZEBUL, NC FIX | 2900 | 17500
ZEBUL, NC FIX | MEYER, NC FIX | 2600 | 17500
MEYER, NC FIX | BOUSY, VA WP | 2100 | 17500
§ 95.3287 RNAV Route T287 is Amended by Adding
GMINI, NC WP | MMJAY, NC WP | 2400 | 17500
MMJAY, NC WP | MERIL, NC FIX | 2400 | 17500
MERIL, NC FIX | SNOWS, NC FIX | 2500 | 17500
SNOWS, NC FIX | OXFRD, NC FIX | 2600 | 17500
OXFRD, NC FIX | BOUSY, VA WP | 2300 | 17500
BOUSY, VA WP | MANGE, VA FIX | 2000 | 17500
MANGE, VA FIX | FLAT ROCK, VA VORTAC | 2000 | 17500
FLAT ROCK, VA VORTAC | GORDONSVILLE, VA VORTAC | 2300 | 17500
GORDONSVILLE, VA VORTAC | *DENNN, VA WP | 2300 | 17500
*3200—MCA DENNN, VA WP, N BND
TOMYD, PA WP | HAMRR, MD WP | 2700 | 10000
HAMRR, MD WP | DANII, MD WP | *6000 | 17500
*3100—MOCA
DANII, MD WP | OBWON, MD WP | *6000 | 17500
*2600—MOCA
OBWON, MD WP | VYSOR, MD WP | 1900 | 10000
VYSOR, MD WP | SPEAK, MD FIX | *2000 | 10000
*1500—MOCA
SPEAK, MD FIX | WNSTN, NJ WP | 2000 | 17500
WNSTN, NJ WP | AVALO, NJ FIX | 1700 | 17500
AVALO, NJ FIX | BRIGS, NJ FIX | 2000 | 17500
BRIGS, NJ FIX | MANTA, NJ FIX | *2500 | 17500
*1300—MOCA
MANTA, NJ FIX | BEADS, NY FIX | *2500 | 17500
*1300—MOCA
BEADS, NY FIX | ORCHA, NY WP | 2000 | 17500
ORCHA, NY WP | PARCH, NY FIX | 2000 | 17500
PARCH, NY FIX | TRAIT, NY FIX | 1800 | 17500
TRAIT, NY FIX | WACKY, CT FIX | 1900 | 17500
WACKY, CT FIX | ASHWY, RI FIX | *2000 | 17500
*1500—MOCA
ASHWY, RI FIX | LAFAY, RI FIX | 2100 | 17500
LAFAY, RI FIX | JIKUK, RI FIX | 2300 | 17500
JIKUK, RI FIX | YBERA, RI FIX | 2200 | 17500
YBERA, RI FIX | PROVIDENCE, RI VOR/DME | 2000 | 17500
PROVIDENCE, RI VOR/DME | INNDY, MA FIX | 2000 | 17500
INNDY, MA FIX | BURDY, MA FIX | 2000 | 17500
BURDY, MA FIX | HAVNS, MA WP | 2000 | 17500
HAVNS, MA WP | GRGIO, MA WP | *2500 | 17500
*1400—MOCA
GRGIO, MA WP | LBSTA, MA FIX | 1900 | 17500
LBSTA, MA FIX | SILVE, NH FIX | 1700 | 17500
SILVE, NH FIX | SEEDY, NH FIX | *1800 | 17500
*1300—MOCA
SEEDY, NH FIX | KENNEBUNK, ME VOR/DME | *2400 | 17500
*1900—MOCA
Is Amended To Read in Part
REEES, PA WP | TOMYD, PA WP | *5000 | 10000
*3700—MOCA
§ 95.3295 RNAV Route T295 Is Amended by Adding
DUFFI, NC FIX | POORK, VA WP | 2500 | 17500
POORK, VA WP | DOGWD, VA WP | 2000 | 17500
DOGWD, VA WP | HOUKY, VA WP | 1900 | 17500
Is Amended To Delete
POORK, VA WP | KREGG, VA WP | 2000 | 17500
KREGG, VA WP | HOUKY, VA WP | 1900 | 17500
§ 95.3315 RNAV Route T315 Is Amended by Adding
JIMUR, KY FIX | CALIF, KY FIX | 2700 | 17500
CALIF, KY FIX | RHOMM, OH WP | 2800 | 17500
RHOMM, OH WP | ZELID, KY WP | *3300 | 17500
*3000—MCA ZELID, KY WP, NW BND
ZELID, KY WP | ILILE, OH WP | 2700 | 17500
ILILE, OH WP | CROUP, OH FIX | 2700 | 17500
CROUP, OH FIX | RULEY, WV WP | 3200 | 17500
RULEY, WV WP | JARLO, WV WP | 3600 | 17500
§ 95.3323 RNAV Route T323 Is Amended by Adding
DACEL, KY WP | ZELID, KY WP | *4000 | 17500
*3300—MOCA
ZELID, KY WP | ROHDE, OH WP | 3300 | 17500
ROHDE, OH WP | VADUY, OH WP | 2900 | 17500
VADUY, OH WP | APPLETON, OH VORTAC | 3100 | 17500
§ 95.3370 RNAV Route T370 Is Amended To Delete
BURBN, TX WP | ZUMKI, TX FIX | *3000 | 17500
*3700—MCA ZUMKI, TX FIX, E BND
ZUMKI, TX FIX | RRORY, TX WP | 4000 | 17500
RRORY, TX WP | RAKOC, TX FIX | 2400 | 17500
RAKOC, TX FIX | TASEY, TX WP | 2300 | 17500
TASEY, TX WP | SLOTH, TX WP | 2000 | 17500
SLOTH, TX WP | LOCUS, AR FIX | 2000 | 17500
LOCUS, AR FIX | HAMPT, AR FIX | 1900 | 17500
HAMPT, AR FIX | RICKG, AR WP | 2000 | 17500
RICKG, AR WP | EJKSN, MS WP | 1900 | 17500
EJKSN, MS WP | IZAAC, MS WP | 1800 | 17500
IZAAC, MS WP | TOMLN, MS FIX | *2000 | 17500
*2200—MCA TOMLN, MS FIX, E BND
TOMLN, MS FIX | CLOUT, MS FIX | 2500 | 17500
CLOUT, MS FIX | SKNRR, MS WP | 2000 | 17500
SKNRR, MS WP | MINIM, AL FIX | 2000 | 17500
MINIM, AL FIX | BESOM, AL FIX | 2300 | 17500
BESOM, AL FIX | NESTS, AL WP | *2500 | 17500
*2000—MOCA
NESTS, AL WP | VLKNN, AL WP | 2500 | 17500
§ 95.3398 RNAV Route T398 Is Amended by Adding
GMINI, NC WP | JIMYV, NC WP | 2300 | 17500
JIMYV, NC WP | ACUTE, NC WP | 2200 | 17500
ACUTE, NC WP | RALEIGH/DURHAM, NC VORTAC | 2300 | 17500
RALEIGH/DURHAM, NC VORTAC | AIMHI, NC WP | 2300 | 17500
AIMHI, NC WP | BOUSY, VA WP | 2200 | 17500
BOUSY, VA WP | THHMP, VA WP | 2000 | 17500
THHMP, VA WP | SVILL, VA WP | 1900 | 17500
SVILL, VA WP | TAPPA, VA FIX | 1900 | 17500
§ 95.3480 RNAV Route T480 Is Added To Read
GREENSBORO, NC VORTAC | REIDE, NC FIX | 2700 | 17500
REIDE, NC FIX | YANCE, NC FIX | 2500 | 17500
YANCE, NC FIX | MCDON, VA WP | 2400 | 17500
MCDON, VA WP | DOGWD, VA WP | 2300 | 17500
DOGWD, VA WP | MAZON, VA FIX | 1900 | 17500
MAZON, VA FIX | COUPN, VA WP | 1800 | 17500
COUPN, VA WP | DRONE, NC FIX | 1800 | 17500
DRONE, NC FIX | ELIZABETH CITY, NC VOR/DME | 2000 | 17500
ELIZABETH CITY, NC VOR/DME | NORTN, NC FIX | 1700 | 17500
NORTN, NC FIX | RTBRO, NC WP | *1800 | 17500
*1300—MOCA
RTBRO, NC WP | ZOLMN, NC FIX | 2000 | 17500
§ 95.3482 RNAV Route T482 Is Added To Read
MEYER, NC FIX | DUFFI, NC FIX | *2500 | 17500
*2200—MCA DUFFI, NC FIX, W BND
DUFFI, NC FIX | GUMBE, NC FIX | 2100 | 17500
GUMBE, NC FIX | COUPN, VA WP | 1900 | 17500
§ 95.3486 RNAV Route T486 Is Added To Read
BURBN, TX WP | ZUMKI, TX FIX | *3000 | 17500
*3700—MCA ZUMKI, TX FIX, E BND
ZUMKI, TX FIX | RRORY, TX WP | 4000 | 17500
RRORY, TX WP | RAKOC, TX FIX | 2400 | 17500
RAKOC, TX FIX | TASEY, TX WP | 2300 | 17500
TASEY, TX WP | SLOTH, TX WP | 2000 | 17500
SLOTH, TX WP | LOCUS, AR FIX | 2000 | 17500
LOCUS, AR FIX | HAMPT, AR FIX | 1900 | 17500
HAMPT, AR FIX | RICKG, AR WP | 2000 | 17500
RICKG, AR WP | EJKSN, MS WP | 1900 | 17500
EJKSN, MS WP | IZAAC, MS WP | 1800 | 17500
IZAAC, MS WP | TOMLN, MS FIX | *2000 | 17500
*2200—MCA TOMLN, MS FIX, E BND
TOMLN, MS FIX | CLOUT, MS FIX | 2500 | 17500
CLOUT, MS FIX | HRISN, MS WP | 2000 | 17500
HRISN, MS WP | MINIM, AL FIX | 2000 | 17500
MINIM, AL FIX | BESOM, AL FIX | 2300 | 17500
BESOM, AL FIX | NESTS, AL WP | *2500 | 17500
*2000—MOCA
NESTS, AL WP | VLKNN, AL WP | 2500 | 17500
§ 95.3488 RNAV Route T488 Is Added To Read
TAR RIVER, NC VORTAC | RMACK, NC FIX | 2100 | 17500
RMACK, NC FIX | ALGTR, NC FIX | *4000 | 17500
*2700—MOCA
ALGTR, NC FIX | RTBRO, NC WP | 2000 | 17500
§ 95.4000 High Altitude RNAV Routes
§ 95.4030 RNAV Route Q30 Is Amended To Read in Part
IZAAC, MS WP | HRISN, MS WP | *18000 | 45000
*18000—GNSS MEA
*DME/DME/IRU MEA
HRISN, MS WP | VLKNN, AL WP | *18000 | 45000
*18000—GNSS MEA
*DME/DME/IRU MEA
§ 95.4140 RNAV Route Q140 Is Amended by Adding
ARRKK, NY WP | TOTHH, NY WP | *18000 | 45000
*18000—GNSS MEA
*DME/DME/IRU MEA
TOTHH, NY WP | YODAA, NY FIX | *18000 | 45000
*18000—GNSS MEA
*DME/DME/IRU MEA
Is Amended To Delete
ARRKK, NY WP | RODYY, NY WP | *18000 | 45000
*18000—GNSS MEA
*DME/DME/IRU MEA
RODYY, NY WP | YODAA, NY FIX | *18000 | 45000
*18000—GNSS MEA
*DME/DME/IRU MEA
Is Amended To Read in Part
U.S. CANADIAN BORDER | MEDAV, NY WP | *18000 | 45000
*18000—GNSS MEA
*DME/DME/IRU MEA
MEDAV, NY WP | AHPAH, NY WP | *18000 | 45000
*18000—GNSS MEA
*DME/DME/IRU MEA

FROM | TO | MEA
§ 95.6001 VICTOR Routes-U.S
§ 95.6003 VOR Federal Airway V3 Is Amended To Read in Part
MODENA, PA VORTAC | MAZIE, PA FIX | 3000 MAA—17500
MAZIE, PA FIX | SOLBERG, NJ VOR/DME | 2500 MAA—17500
§ 95.6020 VOR Federal Airway V20 Is Amended To Read in Part
SOUTH BOSTON, VA VORTAC | MELIA, VA FIX | *3000
*2400—MOCA |  | MAA—17500
§ 95.6029 VOR Federal Airway V29 Is Amended To Read in Part
SMYRNA, DE VORTAC | DUPONT, DE VORTAC | 1800 MAA—17500
§ 95.6044 VOR Federal Airway V44 Is Amended To Delete
FALMOUTH, KY VOR/DME | YORK, KY TACAN | 3300 MAA—17500
YORK, KY TACAN | PARKERSBURG, WV VOR/DME | 3300 MAA—17500
§ 95.6069 VOR Federal Airway V69 Is Amended To Read in Part
HILLE, AR FIX | WALNUT RIDGE, AR VORTAC | *4000
*3100—MOCA |  | MAA—17500
WALNUT RIDGE, AR VORTAC | FARMINGTON, MO VORTAC | 4000 MAA—17500
§ 95.6077 VOR Federal Airway V77 Is Amended To Read in Part
WICHITA, KS VORTAC | WILSY, KS FIX | *5000
*3600—MOCA |  | MAA—17500
WILSY, KS FIX | HEYDN, KS FIX | *5000
*2900—MOCA |  | MAA—17500
§ 95.6097 VOR Federal Airway V97 Is Amended To Read in Part
AMAPO, GA FIX | *WILMS, GA FIX | **3000
*6000—MCA WILMS, GA FIX, N BND
**2000—MOCA |  | MAA—17500
**2500—GNSS MEA
WILMS, GA FIX | *PRATZ, GA FIX
| N BND | **6000
| S BND | **3000
*6000—MCA PRATZ, GA FIX, S BND
**2200—MOCA |  | MAA—17500
**2500—GNSS MEA
§ 95.6120 VOR Federal Airway V120 Is Amended To Read in Part
DUPREE, SD VOR/DME | PIERRE, SD VORTAC | *4300
*3800—MOCA |  | MAA—17500
PIERRE, SD VORTAC | MITCHELL, SD VOR/DME | 3900 MAA—17500
§ 95.6128 VOR Federal Airway V128 Is Amended To Delete
CINCINNATI, KY VORTAC | CALIF, KY FIX | 2600 MAA—17500
CALIF, KY FIX | YORK, KY TACAN | 4000 MAA—17500
YORK, KY TACAN | CROUP, OH FIX | *3300
*2300—MOCA |  | MAA—17500
CROUP, OH FIX | RULEY, WV WP
| NW BND | 3600
| SE BND | 3300 MAA—17500
RULEY, WV WP | CHARLESTON, WV VOR/DME | 3600 MAA—17500
§ 95.6131 VOR Federal Airway V131 Is Amended To Delete
OKMULGEE, OK VOR/DME | TULSA, OK VORTAC | 3200 MAA—17500
TULSA, OK VORTAC | TYROE, KS WP | 3000 MAA—17500
TYROE, KS WP | CHANUTE, KS DME | 2800 MAA—17500
CHANUTE, KS DME | TOPEKA, KS VORTAC | 2900 MAA—17500
§ 95.6132 VOR Federal Airway V132 Is Amended To Delete
HUTCHINSON, KS VOR/DME | WAIVE, KS FIX | 4000 MAA—17500
WAIVE, KS FIX | *FLOSS, KS FIX | 3300
*5000—MCA FLOSS, KS FIX, SE BND
|  | MAA—17500
FLOSS, KS FIX | CHANUTE, KS DME | *5000
*2800—MOCA |  | MAA—17500
CHANUTE, KS DME | NALLY, KS WP
| W BND | 2800
| E BND | 4500 MAA—17500
NALLY, KS WP | SPRINGFIELD, MO VORTAC | *4500
*2800—MOCA |  | MAA—17500
*3000—GNSS MEA
§ 95.6190 VOR Federal Airway V190 Is Amended To Read in Part
MITBEE, OK VORTAC | CARON, OK FIX
| SW BND | *6000
| NE BND | *8000
*4100—MOCA |  | MAA—17500
CARON, OK FIX | FIRET, OK FIX | *8000
*3100—MOCA |  | MAA—17500
§ 95.6252 VOR Federal Airway V252 Is Amended To Read in Part
GENESEO, NY VOR/DME | GIBBE, NY FIX | 4500 MAA—17500
GIBBE, NY FIX | BINGHAMTON, NY VOR/DME
| SE BND | 3800
| NW BND | 4500 MAA—17500
§ 95.6307 VOR Federal Airway V307 Is Amended To Delete
CHANUTE, KS DME | EMPORIA, KS VORTAC | 3000 MAA—17500
§ 95.6350 VOR Federal Airway V350 Is Amended To Delete
WICHITA, KS VORTAC | CHANUTE, KS DME | 3600 MAA—17500
§ 95.6419 VOR Federal Airway V419 Is Amended To Read in Part
MODENA, PA VORTAC | MAZIE, PA FIX | 3000 MAA—17500
MAZIE, PA FIX | SOLBERG, NJ VOR/DME | 2500 MAA—17500
§ 95.6431 VOR Federal Airway V431 Is Amended To Read in Part
REVER, MA FIX | GARDNER, MA VOR/DME | 3700 MAA—17500
§ 95.6493 VOR Federal Airway V493 Is Amended To Delete
LEXINGTON, KY VOR/DME | BEAER, KY WP | 3000 MAA—17500
BEAER, KY WP | YORK, KY TACAN | 3300 MAA—17500
YORK, KY TACAN | TARTO, OH FIX | 3300 MAA—17500
TARTO, OH FIX | APPLETON, OH VORTAC | 3000 MAA—17500
§ 95.6518 VOR Federal Airway V518 Is Amended To Read in Part
TWINE, CA FIX | *LANGE, CA FIX | **7000
*11000—MCA LANGE, CA FIX, NE BND
**6000—MOCA |  | MAA—17500
LANGE, CA FIX | PALMDALE, CA VORTAC | *11000 MAA—17500
*7500—MOCA
§ 95.6506 Alaska VOR Federal Airway V506 Is Amended by Adding
KOTZEBUE, AK VOR/DME | SETUP, AK FIX
| N BND | 2000
| S BND | 7000 MAA—17500
SETUP, AK FIX | BAIME, AK FIX | *7000
*5700—MOCA |  | MAA—17500
*6000—GNSS MEA
BAIME, AK FIX | NOME, AK VOR/DME
| S BND | 6000
| N BND | 7000 MAA—17500
NOME, AK VOR/DME | DACIA, AK FIX
| N BND | *4000
| S BND | *8000
*3200—MOCA |  | MAA—17500
DACIA, AK FIX | JOHNI, AK FIX | *8000
*3200—MOCA |  | MAA—17500
*4000—GNSS MEA
JOHNI, AK FIX | MARSI, AK FIX | *16000
*3200—MOCA |  | MAA—17500
*4000—GNSS MEA
*MEA IS ESTABLISHED WITH A GAP IN NAVIGATION SIGNAL COVERAGE.
MARSI, AK FIX | BETHEL, AK VORTAC
| E BND | 2000
| W BND | 16000
|  | MAA—17500
BETHEL, AK VORTAC | CAYON, AK FIX
| W BND | 4000
| E BND | 8000
|  | MAA—17500
CAYON, AK FIX | KOWOK, AK FIX | *8000
*7000—MOCA |  | MAA—17500
*7000—GNSS MEA
KOWOK, AK FIX | KING SALMON, AK VORTAC | *3000
*2400—MOCA |  | MAA—17500
Is Amended To Delete
CJAYY, AK FIX | KODIAK, AK VOR/DME | 4000
|  | MAA—17500
KODIAK, AK VOR/DME | BREMI, AK FIX | *12000
*9900—MOCA |  | MAA—17500
*10000—GNSS MEA
BREMI, AK FIX | KING SALMON, AK VORTAC
| E BND | 12000
| W BND | 5000
|  | MAA—17500
KING SALMON, AK VORTAC | KOWOK, AK FIX | *3000
*2400—MOCA |  | MAA—17500
KOWOK, AK FIX | CAYON, AK FIX | *8000
*7000—MOCA |  | MAA—17500
*7000—GNSS MEA
CAYON, AK FIX | BETHEL, AK VORTAC
| E BND | 8000
| W BND | 4000
|  | MAA—17500
BETHEL, AK VORTAC | MARSI, AK FIX
| W BND | 16000
| E BND | 2000
|  | MAA—17500
MARSI, AK FIX | JOHNI, AK FIX | *16000
*3200—MOCA |  | MAA—17500
*4000—GNSS MEA
*MEA IS ESTABLISHED WITH A GAP IN NAVIGATION SIGNAL COVERAGE.
JOHNI, AK FIX | DACIA, AK FIX | *8000
*3200—MOCA |  | MAA—17500
*4000—GNSS MEA
DACIA, AK FIX | NOME, AK VOR/DME
*3200—MOCA | S BND | *8000
| N BND | *4000
|  | MAA—17500
NOME, AK VOR/DME | BAIME, AK FIX
| N BND | 7000
| S BND | 6000
|  | MAA—17500
BAIME, AK FIX | SETUP, AK FIX | *7000
*5700—MOCA |  | MAA—17500
*6000—GNSS MEA
SETUP, AK FIX | KOTZEBUE, AK VOR/DME
| S BND | 7000
| N BND | 2000
|  | MAA—17500
KOTZEBUE, AK VOR/DME | HOTHAM, AK NDB | 2000
|  | MAA—17500
HOTHAM, AK NDB | SHOKK, AK WP | *6000
*5000—MOCA |  | MAA—17500
*5000—GNSS MEA
SHOKK, AK WP | MEADE, AK FIX | *10000
*7000—MOCA |  | MAA—17500
*8000—GNSS MEA
MEADE, AK FIX | BARROW, AK VOR/DME
| S BND | *10000
| N BND | *2000
*1100—MOCA |  | MAA—17500

Airway Segment: FROM | Changeover Points: TO | Changeover Points: DISTANCE | Changeover Points: FROM
§ 95.8003 VOR Federal Airway Changeover Point
V20 Is Amended To Add Changeover Point
SOUTH BOSTON, VA VORTAC | RICHMOND, VA VORTAC | 46 | SOUTH BOSTON.
V128 is Amended To Delete Changeover Point
CINCINNATI, KY VORTAC | YORK, KY VORTAC | 38 | CINCINATTI.
YORK, KY VORTAC | CHARLESTON, VA VORTAC | 29 | YORK.
Alaska V506
KODIAK, AK VOR/DME | KING SALMON, AK VORTAC | 55 | KODIAK.
HOTHAM, AK NDB | BARROW, AK VOR/DME | 186 | HOTHAM.
Alaska V506 Is Amended To Modify Changeover Point
KOTZEBUE, AK VOR/DME | NOME, AK VOR/DME | 95 | KOTZEBUE.
BETHEL, AK VORTAC | KING SALMON, AK VORTAC | 96 | BETHEL.

[FR Doc. 2024-13342 Filed 6-17-24; 8:45 am]

BILLING CODE 4910-13-P